DEPARTMENT OF HEALTH AND HUMAN SERVICES

[Document Identifier: OS-4040-0006]

Agency Information Collection Request: 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Mary.Tutman@hhs.gov, or call the Reports Clearance Office on (202) 690-6162. Written comments and recommendations for the proposed information collections must be received within 60 days, and directed to the OS Paperwork Clearance Officer at the above email address within 60 days.

Proposed Project: SF-424A (Budget Information—Non-Construction Programs)—Revision OMB No. 4040-0006—Grants.gov.

Abstract: The SF-424A (Budget Information—Non-Construction Programs) OMB no. 4040-0006 form is a currently approved collection. The Office of Grant.gov is requesting an approval on a revision to the form; the proposed changes were made to the instructions only. In the “General Instructions” section, the following sentence is added as the last sentence: “In ALL cases total funding budgets should be reflected NOT only incremental budget request changes.” Also, in the “Section B Budget Categories” section, the last sentence is revised as follows: “For each program, function or activity, fill in the total requirements for funds, Federal funding only, by object class categories.” This form could be utilized by up to 26 Federal grant making agencies. The SF-424A is used to provide budget information when applying for non-construction Federal grants. The Federal awarding agencies use information reported on the form for the evaluation of award and general management of Federal assistance program awards.

Estimated Annualized Burden Table
Agency | Number of respondents | Number of responses per respondent | Average burden per response (in hours) | Total burden hours
CNCS | 6,450 | 1 | 4 | 25,800
DOD | 108 | 1.6 | 50/60 | 144
DOL | 2,130 | 1 | 1 | 2,130
VA | 200 | 1 | 20/60 | 67
DOT | 1,361 | 1 | 1.80 | 2,450
SSA | 175 | 1.25 | 14 | 3,063
HHS | 9,751 | 1.22 | 1.62 | 19,272
Total |  |  |  | 52,926

Seleda M. Perryman,
Office of the Secretary, Paperwork Reduction Act Reports Clearance Officer.

[FR Doc. 2010-9669 Filed 4-26-10; 8:45 am]

BILLING CODE 4151-AE-P